DEPARTMENT OF HEALTH AND HUMAN SERVICES

National Institutes of Health

National Cancer Institute; Amended Notice of Meeting

Notice is hereby given of a change in the meeting of the National Cancer Institute Special Emphasis Panel, December 04, 2013, 01:00 p.m. to December 04, 2013, 02:30 p.m., NCI Shady Grove, 9609 Medical Center Drive, Room 7W110, Rockville, MD, 20850 which was published in the Federal Register on October 28, 2013, 78 FR 64222.

The meeting start time is changed from 1:00 p.m. to 2:00 p.m. and the end time is changed from 2:30 p.m. to 3:30 p.m. The meeting date and location remain the same. The meeting is closed to the public.

Dated: November 1, 2013.
Melanie J. Gray,
Program Analyst, Office of Federal Advisory Committee Policy.

[FR Doc. 2013-26628 Filed 11-6-13; 8:45 am]

BILLING CODE 4140-01-P